DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0038, FEMA Form—None.

SUMMARY: The Federal Emergency Management Agency, as part of its continuing effort to reduce paperwork and respondent burden, invites the general public and other Federal agencies to take this opportunity to comment on a continuing information collection. In accordance with the Paperwork Reduction Act of 1995, this notice seeks comments concerning information collected from new applicants to the National Flood Insurance Program (NFIP), Write-Your-Own (WYO) Program.

SUPPLEMENTARY INFORMATION: Under the WYO Program, the Federal Emergency Management Agency may enter into arrangements authorized by the National Flood Insurance Act of 1968, as amended (the Act) with individual private sector insurance companies that are licensed to engage in the business of property insurance. These companies may offer flood insurance coverage to eligible property owners utilizing their customary business practice. To ensure that a company seeking to return or participate in the WYO program is qualified, FEMA requires a one-time submission of information to determine the company's qualifications, as set forth in 44 CFR 62.24.

Collection of Information

Title: Write Your Own (WYO) Company Participation Criteria; New Applicant.

Type of Information Collection: Extension, without change, of a currently approved collection.

OMB Number: 1660-0038.

Form Numbers: None.

Abstract: The Federal Government is a guarantor of flood insurance coverage issued under the WYO arrangement, which allows private insurance to write flood insurance policies. To determine eligibility for participation in the WYO Program, the National Flood Insurance Program requires a one-time application for participation from each new private insurance company seeking entry into the program. FEMA will review each application to determine eligibility to participate in the program.

Affected Public: Business or other for-profit.

Estimated Total Annual Burden Hours: 35 hours.

Annual Hour Burden
Data collection activity/instrument | Number of respondents | Frequency of responses | Hour burden per response | Annual responses | Total annual burden hours
| (A) | (B) | (C) | (D) = (AxB) | (CxD)
WYO Company Participation Criteria; New Applicant | 5 | 1 | 7 | 35 | 35
Total | 5 | 1 | 7 | 35 | 35

Estimated Cost: The estimated annualized cost to respondents based on wage rate categories is $1,396.00. The estimated annual cost to the Federal Government is $799.00.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before December 15, 2008.

ADDRESSES: Interested persons should submit written comments to Office of Management, Records Management Division, Federal Emergency Management Agency, 500 C Street, SW., Washington, DC 20472, Mail Drop Room 301.

FOR FURTHER INFORMATION CONTACT: Contact Dennis Kuhns, Director, Risk Insurance Division, Mitigation Directorate, Federal Emergency Management Agency, (703) 605-0429 for additional information. You may contact the Records Management Branch for copies of the proposed collection of information at facsimile number (202) 646-3347 or e-mail address: FEMA-Information-Collections@dhs.gov.

Pamela J. Carcirieri,
Acting Director, Records Management Division, Office of Management, Federal Emergency Management Agency, Department of Homeland Security.

[FR Doc. E8-24475 Filed 10-14-08; 8:45 am]

BILLING CODE 9110-13-P